DEPARTMENT OF TRANSPORTATION

Federal Aviation Administration

14 CFR Part 71

[Airspace Docket No. 97-ASO-18]

RIN 2120-AA66

Realignment and Establishment of VOR Federal Airways; KY and TN

AGENCY: Federal Aviation Administration (FAA), DOT.

ACTION: Final rule; correction.

SUMMARY: This action corrects a final rule published in the Federal Register on June 2, 2000. The legal description of Federal Airway V-384 inadvertently listed incorrect radials. This action corrects that error.

EFFECTIVE DATE: July 5, 2000.

FOR FURTHER INFORMATION CONTACT: Terry Brown, Airspace and Rules Division, ATA-400, Office of Air Traffic Airspace Management, Federal Aviation Administration, 800 Independence Avenue, SW., Washington, DC 20591; telephone: (202) 267-8783.

SUPPLEMENTARY INFORMATION: On June 2, 2000, Airspace Docket No. 97-ASO-18, FR Doc. 00-13750, was published establishing V-384 between Livingston, TN, and Volunteer, TN. This rule included a legal description for V-384, which inadvertently listed incorrect radials. This action corrects this situation by omitting the radials in the legal description for V-384, thereby eliminating the error.

Correction to Final Rule

Accordingly, pursuant to the authority delegated to me, the legal description for V-384 as published in the Federal Register on June 2, 2000 (65 FR 35272); FR Doc. 00-13750, and incorporated by reference in 14 CFR 71.1, is corrected as follows:

§ 71.1 [Corrected]

On page 35273, the legal description for V-384 is corrected as follows:

Paragraph 6010(a)—Domestic VOR Federal Airways

* * * * *

V-384—[Revised]

From Livingston, TN; to Volunteer, TN.

* * * * *

Issued in Washington, DC, on June 27, 2000.
Reginald C. Matthews,
Manager, Airspace and Rules Division.

[FR Doc. 00-16914 Filed 7-3-00; 8:45 am]

BILLING CODE 4910-13-P